ARCHITECTURAL AND TRANSPORTATION BARRIERS COMPLIANCE BOARD

36 CFR Part 1195

[Docket No. 2007-02]

RIN 3014-AA22

Architectural Barriers Act (ABA) Accessibility Guidelines for Outdoor Developed Areas

AGENCY: Architectural and Transportation Barriers Compliance Board.

ACTION: Notice of hearing.

SUMMARY: The Architectural and Transportation Barriers Compliance Board (Access Board) will hold a hearing on proposed accessibility guidelines for outdoor developed areas designed, constructed, or altered by Federal agencies subject to the Architectural Barriers Act of 1968. The guidelines cover trails, outdoor recreation access routes, beach access routes, and picnic and camping facilities.

DATES: The hearing will be on September 26, 2007 from 2 p.m. until 5 p.m.

ADDRESSES: The hearing will be held at the Indiana Convention Center, Room 102, 100 South Capitol Avenue, Indianapolis, IN 46225.

FOR FURTHER INFORMATION CONTACT: Bill Botten, Office of Technical and Information Services, Architectural and Transportation Barriers Compliance Board, 1331 F Street, NW., suite 1000, Washington, DC 20004-1111. Telephone number (202) 272-0014 (Voice); (202) 272-0082 (TTY). These are not toll-free numbers. E-mail address: botten@access-board.gov.

SUPPLEMENTARY INFORMATION: On June 20, 2007, the Architectural and Transportation Barriers Compliance Board (Access Board) published proposed accessibility guidelines in the Federal Register for outdoor developed areas designed, constructed, or altered by Federal agencies subject to the Architectural Barriers Act of 1968. 72 FR 34074 (June 20, 2007). The Architectural Barriers Act applies to federally financed facilities. The guidelines cover trails, outdoor recreation access routes, beach access routes, and picnic and camping facilities.

The guidelines are available for public comment until October 18, 2007. The Board is also holding hearings on the proposed guidelines. One hearing was held in Westminster, CO on July 24 (comments from the hearing can be viewed at http://www.access-board.gov/outdoor/nprm/comments/index.htm). Another hearing will take place during the Access Board's regularly scheduled Board meeting on September 6, 2007 from 2 p.m. until 5 p.m. at the Madison Hotel, 1177 Fifteenth Street, NW., Washington, DC 20005. 72 FR 34074 (June 20, 2007).

The final hearing will take place on September 26, 2007 from 2 p.m. until 5 p.m. at the Indiana Convention Center, Room 102, 100 South Capitol Avenue, Indianapolis, IN 46225 in conjunction with the National Recreation and Park Association's annual Congress and Exposition. The hearing location is accessible to individuals with disabilities. Sign language interpreters and real-time captioning will be provided. For the comfort of other participants, persons attending the hearing are requested to refrain from using perfume, cologne, and other fragrances.

Tricia Mason,
Chair, Architectural and Transportation Barriers Compliance Board.

[FR Doc. E7-16623 Filed 8-22-07; 8:45 am]

BILLING CODE 8150-01-P